DEPARTMENT OF ENERGY

Federal Energy Regulatory Commission

[Docket No. OR14-6-002]

BP Pipelines (Alaska) Inc., ConocoPhillips Transportation Alaska, Inc., and ExxonMobil Pipeline Company; Notice Affording the Parties an Opportunity To File Pleadings

1. On April 20, 2018, Petro Star, Inc. filed with the United States Court of Appeals for the District of Columbia Circuit (D.C. Circuit) a petition for review of the Commission's order in BP Pipelines (Alaska) Inc., ConocoPhillips Transportation Alaska, Inc., and ExxonMobil Pipeline Company, 162 FERC ¶ 61,147 (2018). On March 6, 2019, the Commission filed an unopposed motion for voluntary remand of the above-captioned proceeding.¹ The Voluntary Remand Motion stated: “To help inform the Commission's decision on remand, the parties may file with the Commission, within 60 days of a Court order granting this motion, pleadings setting forth the parties' respective positions concerning (1) the scope of issues properly before the agency on voluntary remand, and (2) the procedures to be employed by the agency in addressing those issues. The Commission will also permit the parties to file responsive pleadings within 30 days after the initial pleadings.” ² The D.C. Circuit granted the Voluntary Remand Motion on March 7, 2019.³

¹ PetroStar, Inc. v. FERC, Unopposed Motion of Respondent Federal Energy Regulatory Commission for Voluntary Remand, No. 18-1104 (filed Mar. 6, 2019) (Voluntary Remand Motion).

² Id. at 2-3.

³ PetroStar, Inc. v. FERC, No. 18-1104, Order (issued Mar. 7, 2019).

2. Accordingly, the parties are hereby afforded the opportunity to file initial pleadings with the Commission by May 6, 2019. The parties may file responsive pleadings with the Commission by June 5, 2019.

Nathaniel J. Davis, Sr.,
Deputy Secretary.

[FR Doc. 2019-05505 Filed 3-21-19; 8:45 am]

BILLING CODE 6717-01-P